DEPARTMENT OF THE TREASURY

Office of Foreign Assets Control

Unblocking of Specially Designated Nationals and Blocked Persons Pursuant to Executive Order 13391

AGENCY: Office of Foreign Assets Control, Treasury.

ACTION: Notice.

SUMMARY: The Treasury Department's Office of Foreign Assets Control (OFAC) is publishing the name of one individual whose property and interests in property has been unblocked pursuant to Executive Order 13391 of November 22, 2005, “Blocking Property of Additional Persons Undermining Democratic Processes or Institutions in Zimbabwe.”

DATES: OFAC's actions described in this notice are effective as of April 12, 2017.

FOR FURTHER INFORMATION CONTACT: Associate Director for Global Targeting, tel.: 202/622-2420, Assistant Director for Sanctions Compliance & Evaluation, tel.: 202/622-2490, Assistant Director for Licensing, tel.: 202/622-2480, Office of Foreign Assets Control, or Chief Counsel (Foreign Assets Control), tel.: 202/622-2410 (not toll free numbers).

SUPPLEMENTARY INFORMATION:

Electronic Availability

The SDN List and additional information concerning OFAC sanctions programs are available from OFAC's Web site (www.treasury.gov/ofac).

Notice of OFAC Actions

On April 12, 2017, OFAC, in consultation with the U.S. Department of State, removed from the SDN List the individual listed below, whose property and interests in property were blocked pursuant to Executive Order 13391 (E.O. 13391).

1. MUTEZO, Munacho Thomas Alvar, 950 Sugarloaf Hill, Glen Lorne, Zimbabwe; DOB 14 Feb 1954; Passport AN187089 (Zimbabwe) expires 5 Dec 2010; Minister of Water Resources and Infrastructural Development (individual) [ZIMBABWE].

Dated: April 12, 2017.
Andrea M. Gacki,
Acting Director, Office of Foreign Assets Control.

[FR Doc. 2017-07651 Filed 4-14-17; 8:45 am]

BILLING CODE 4810-AL-P